DEPARTMENT OF HEALTH AND HUMAN SERVICES

Centers for Disease Control and Prevention

Disease, Disability, and Injury Prevention and Control Special Emphasis Panel (SEP): Research Into the Public Health Aspects of West Nile Virus in the United States, PA #04052

In accordance with section 10(a)(2) of the Federal Advisory Committee Act (Pub. L. 92-463), the Centers for Disease Control and Prevention (CDC) announces the following meeting:

Name: Disease, Disability, and Injury Prevention and Control Special Emphasis Panel (SEP): Research into the Public Health Aspects of West Nile Virus in the United States, PA #04052.

Times and Dates: 8:30 a.m.-9 a.m., August 2, 2004 (Open). 9:15 a.m.-6 p.m., August 2, 2004 (Closed). 8:30 a.m.-9 a.m., August 3, 2004 (Open). 9:15 a.m.-6 p.m., August 3, 2004 (Closed).

Place: Renaissance Concourse Hotel, One Hartsfield Centre Parkway, Atlanta, GA 30354, Telephone (404) 209-9999.

Status: Portions of the meeting will be closed to the public in accordance with provisions set forth in Section 552b(c) (4) and (6), Title 5 U.S.C., and the Determination of the Director, Management Analysis and Services Office, CDC, pursuant to Public Law 92-463.

Matters to be Discussed: The meeting will include the review, discussion, and evaluation of applications received in response to: Research into the Public Health Aspects of West Nile Virus in the United States, PA #04052.

For Further Information Contact: Trudy Messmer, Ph.D., Scientific Review Administrator, Centers for Disease Control, National Center for Infectious Diseases, 1600 Clifton Road NE., Mailstop C19, Atlanta, GA 30333, Telephone (404) 639-2176.

The Director, Management Analysis and Services Office, has been delegated the authority to sign Federal Register notices pertaining to announcements of meetings and other committee management activities, for both CDC and the Agency for Toxic Substances and Disease Registry.

Dated: July 1, 2004.
Alvin Hall,
Director, Management Analysis and Services Office, Centers for Disease Control and Prevention.

[FR Doc. 04-15800 Filed 7-12-04; 8:45 am]

BILLING CODE 4163-18-P